INTERNATIONAL TRADE COMMISSION

[Investigation Nos. 701-TA-663-664 and 731-TA-1555-1556 (Final)]

Granular Polytetrafluoroethylene (PTFE) Resin From India and Russia; Determinations

On the basis of the record ¹ developed in the subject investigations, the United States International Trade Commission (“Commission”) determines, pursuant to the Tariff Act of 1930 (“the Act”), that an industry in the United States is materially injured by reason of imports of granular polytetrafluoroethylene (“PTFE”) resin from India and Russia, provided for in subheadings 3904.61.00 and 3904.69.50 of the Harmonized Tariff Schedule of the United States, that have been found by the U.S. Department of Commerce (“Commerce”) to be sold in the United States at less than fair value (“LTFV”), and to be subsidized by the governments of India and Russia.2 3

¹ The record is defined in § 207.2(f) of the Commission's Rules of Practice and Procedure (19 CFR 207.2(f)).

² 87 FR 3764, 87 FR 3765, 87 FR 3772, and 87 FR 3774 (January 25, 2022).

³ The Commission also finds that imports subject to Commerce's affirmative critical circumstances determination are not likely to undermine seriously the remedial effect of the countervailing and antidumping duty orders on granular PTFE resin from India.

Background

The Commission instituted these investigations effective January 27, 2021, following receipt of petitions filed with the Commission and Commerce by Daikin America, Inc., Orangeburg, New York. The final phase of the investigations was scheduled by the Commission following notification of preliminary determinations by Commerce that imports of granular PTFE resin from India and Russia were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on September 15, 2021 (86 FR 51378). In light of the restrictions on access to the Commission building due to the COVID-19 pandemic, the Commission conducted its hearing through written testimony and videoconference held on January 19, 2022. All persons who requested the opportunity were permitted to participate.

The Commission made these determinations pursuant to §§ 705(b) and 735(b) of the Act (19 U.S.C. 1671d(b) and 19 U.S.C. 1673d(b)). It completed and filed its determinations in these investigations on March 8, 2022. The views of the Commission are contained in USITC Publication 5285 (March 2022), entitled Granular Polytetrafluoroethylene (PTFE) Resin from India and Russia: Investigation Nos. 701-TA-663-664 and 731-TA-1555-1556 (Final).

By order of the Commission.
Issued: March 8, 2022.
Lisa Barton,
Secretary to the Commission.

[FR Doc. 2022-05183 Filed 3-10-22; 8:45 am]

BILLING CODE 7020-02-P